DEPARTMENT OF COMMERCE

National Oceanic and Atmospheric Administration

50 CFR Part 679

[Docket No. 99991223349-9349-01; I.D. 012800D]

Fisheries of the Exclusive Economic Zone Off Alaska; Fishing Vessels Greater Than 99 feet LOA Catching Pollock for Processing by the Inshore Component Independently of a Cooperative in the Bering Sea

AGENCY: National Marine Fisheries Service (NMFS), National Oceanic and Atmospheric Administration (NOAA), Commerce.

ACTION: Closure.

SUMMARY: NMFS is prohibiting directed fishing for pollock by vessels greater than 99 ft length overall (LOA) catching pollock independently of a fishing cooperative for processing by the inshore component in the Steller sea lion conservation area (SCA) of the Bering Sea and Aleutian Islands management area (BSAI). This action is necessary because the interim A season inside SCA allocation of pollock total allowable catch (TAC) specified for the vessels greater than 99 ft LOA within the SCA catching pollock independently of a fishing cooperative will be reached.

DATES: Effective 1200 hrs, Alaska local time (A.l.t.), January 30, 2000, until 1200 hrs, A.l.t., April 1, 2000.

FOR FURTHER INFORMATION CONTACT: Andrew Smoker, 907-586-7228.

SUPPLEMENTARY INFORMATION: NMFS manages the groundfish fishery in the BSAI according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(a)(5)(i)(C)(2), § 679.20 (a)(5)(i)(D)(3), and the revised interim 2000 TAC amounts for pollock in the Bering Sea subarea (65 FR 4520, January 28, 2000) the A season allocation of TAC specified to the sector of the inshore component fishing independently of a cooperative for harvest within the SCA is 5,027 metric tons (mt).

In accordance with § 679.22(a)(11)(iv)(A) and (D)(2) the Administrator, Alaska Region, NMFS (Regional Administrator), has determined that the A season allocation of pollock TAC specified to the inshore sector fishing for pollock independently of a cooperative for harvest within the SCA will be reached. The Regional Administrator has estimated that 1,000 mt is likely to be harvested by catcher vessels less than or equal to 99 ft LOA fishing independently of a cooperative during the remainder of the A season and is reserving that amount to accommodate fishing by such vessels after the closure of the SCA to vessels greater than 99 ft LOA fishing independently of a cooperative.

Consequently, NMFS is prohibiting directed fishing for pollock by vessels greater than 99 ft LOA fishing independently of a cooperative that are catching pollock for processing by the inshore component in the SCA, as defined at § 679.22(a)(11)(iv).

Maximum retainable bycatch amounts may be found in the regulations at § 679.20(e) and (f).

Classification

This action responds to the best available information recently obtained from the fishery. It must be implemented immediately in order to prevent exceeding the A season allocation of pollock TAC specified to the sector fishing independently of a cooperative for harvest within the SCA. A delay in the effective date is impracticable and contrary to the public interest. Further delay would result in noncompliance with reasonable and prudent management measures implemented to promote the recovery of the endangered Steller sea lion. NMFS finds for good cause that the implementation of this action can not be delayed for 30 days. Accordingly, under 5 U.S.C. 553(d), a delay in the effective date is hereby waived.

This action is required by § 679.22 and is exempt from review under E.O. 12866.

Authority: 16 U.S.C. 1801 et seq.

Dated: January 28, 2000.
Bruce C. Morehead,
Acting Director, Office of Sustainable Fisheries, National Marine Fisheries Service.

[FR Doc. 00-2322 Filed 1-31-00; 9:48 am]

BILLING CODE 3510-22-F